DEPARTMENT OF COMMERCE

Census Bureau

[Docket Number: 240708-0186]

X-RIN 0607-XC078

American Community Survey Timeline for Implementing Updated 2024 Race and Ethnicity Data Standards

AGENCY: Census Bureau, Department of Commerce.

ACTION: Notice; request for public comment.

SUMMARY: The American Community Survey (ACS) collects race and ethnicity data from respondents according to the standards outlined by the U.S. Office of Management and Budget (OMB) in Statistical Policy Directive No.15 (SPD 15). In March 2024, OMB issued updates to SPD 15 that must be implemented into all Federal information collections that collect data on race and ethnicity as soon as possible but no later than March 28, 2029. The Department of Commerce invites the public to comment on the timeline for the adoption of these updated standards for the ACS.

DATES: To ensure consideration, comments must be received on or before August 12, 2024.

ADDRESSES: Interested persons are invited to submit written comments by email to acso.pra@census.gov. Please reference ACS SPD 15 in the subject line of your comments. Comments may also be submitted through the Federal e-Rulemaking Portal at www.regulations.gov under the docket established for this request for comment, USBC-2024-0020. Click the “Comment Now!” icon, complete the require fields, and enter or attach your comments. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Nicole Butler, ADC for Data Collection, U.S. Census Bureau, (301) 763-3928, nicole.butler@census.gov.

SUPPLEMENTARY INFORMATION:

I. Background

The ACS is an ongoing monthly survey that collects detailed housing and socioeconomic data from a sample of about 3.54 million addresses in the United States and about 36,000 addresses in Puerto Rico, where it is known as the Puerto Rico Community Survey (PRCS), each year. The ACS also collects detailed socioeconomic data from about 170,900 residents living in group quarters (GQ) facilities in the United States and Puerto Rico. Resulting tabulations from this data collection are provided every year. The ACS allows the Census Bureau to provide timely and relevant housing and socioeconomic statistics, even for low levels of geography.

The Census Bureau developed the ACS to collect and update demographic, social, economic, and housing data every year that are essentially the same as the “long-form” data that the Census Bureau formerly collected once a decade as part of the decennial census. Federal and State government agencies use such data to evaluate and manage Federal programs and to distribute funding for various programs that include food stamp benefits, transportation dollars, and housing grants. State, county, Tribal, and community governments, nonprofit organizations, businesses, and the general public use information such as housing quality, income distribution, journey-to-work patterns, immigration data, and regional age distributions for decision-making and program evaluation. The ACS is the only source of comparable data about social, economic, housing, and demographic characteristics for small areas and small subpopulations across the nation and in Puerto Rico.

The ACS program provides estimates annually for all states and all medium and large cities, counties, and metropolitan areas. For smaller areas and population groups, it takes five years to accumulate enough data to provide reliable estimates. Detailed, statistical portraits of the social, economic, housing, and demographic characteristics for every community in the nation are available each year through one-year and five-year ACS products.

The ACS collects detailed socioeconomic data on over 40 topics, including race and ethnicity. The list of topics and questions can be found here: https://www.census.gov/acs/www/about/why-we-ask-each-question/.

Currently, race and ethnicity data are collected and tabulated based on OMB's 1997 Statistical Policy Directive No 15 (SPD 15) on Federal race and ethnicity data standards. The standards provide a common language to promote uniformity and comparability for data on race and ethnicity across Federal data collections. OMB's 2024 SPD 15 updates, consistent with OMB's established processes, were the result of a review by a Federal Interagency Technical Working Group, composed of Federal career staff, that provided recommendations to the Chief Statistician of the United States. These recommendations were based on extensive research conducted by Federal agencies and a robust stakeholder engagement and public comment process. OMB's decisions closely follow the evidence-based recommendations of the Working Group and include revisions to the guidance for measuring, collecting, and tabulating information on race and ethnicity, including:

• Collecting race and ethnicity information using one combined question,

• Adding Middle Eastern or North African as a new minimum category,

• Requiring the collection of detailed race and ethnicity categories as a default,

• Updating terminology, definitions, and question wording, and

• Guidance on data collection and editing procedures and presentation of race and ethnicity data.

The Census Bureau is now focused on developing plans to implement the 2024 SPD 15 in its census and survey programs, including the ACS.

II. Proposal

The Census Bureau has evaluated the practicability of implementing the updated race and ethnicity data standards into either the 2026 ACS or the 2027 ACS. Implementing the 2024 SPD 15 in the ACS as quickly as possible is essential. As outlined below, the Bureau's assessment is that implementation in the full suite of ACS data products will be targeted for 2027, with dissemination of data products to then begin in 2028.

Apart and independently from a 2027 ACS implementation of 2024 SPD 15, the Census Bureau is also considering utilizing bridging techniques, or crosswalking, to produce a limited set of experimental data products earlier than the schedule outlined below. If deemed feasible, these early experimental data products would likely be a subset of tables from the 5-year data products that would reflect data from 2022-2026, crosswalked with the updated race and ethnicity data standards.

With regard to the 2024 SPD 15 implementation, the Census Bureau expects the positive impacts of updated race and ethnicity data that align with the revised standards will go far in improving the available information about the demographic makeup and socioeconomic characteristics of our country and our diverse communities. In order to realize the positive impact of more accurate race and ethnicity data, the quality and integrity of the ACS implementation must be ensured. The Census Bureau has conducted an assessment of what would be necessary to implement the 2024 SPD 15 in the ACS in either: (a) the 2026 ACS with dissemination of data products to then begin in 2027, or (b) the 2027 ACS with dissemination of data products to then begin in 2028. This assessment considered multiple factors such as:

• The amount of additional time needed for ACS activities to ensure accurate implementation. The most challenging tasks include revising and testing procedures for processing data and developing updated data products.

• Necessary scope and schedule changes for competing ongoing high-priority projects. The Census Bureau has a number of critical data modernization projects underway that are expected to use many of the same resources needed for implementation of the 2024 SPD 15 in the ACS.

• The need and timing for additional expert resources. Implementing the 2024 SPD 15 in the ACS requires the availability of dedicated resources with subject matter expertise.

• When and how to obtain external stakeholder feedback on Census Bureau implementation plans. Transparent engagement with stakeholders is highly valued and will inform deliberations.

Based on the current assessment of cost, risk, and benefit, the Census Bureau proposes implementing the updated race and ethnicity data standards into the 2027 ACS data collection cycle. Implementing the 2024 SPD 15 as quickly as possible must be balanced against the risks of major errors. Information gathered through this request for public comment will allow the Census Bureau to update this assessment to include additional costs, risks, and benefits faced by non-Federal users of ACS data. Implementing the updated standards in 2027 would mean that the first ACS 1-year estimates under the updated standards would be released in September 2028 for the 2027 ACS 1-year data. The first 5-year estimates produced solely using the data collected under the 2024 SPD 15 would be available in the 2027-2031 ACS 5-year data, scheduled for release in December 2032. Should a determination be made to instead implement the updated standards in 2026, these release dates would be moved up by one year. For example, the first ACS 1-year data using the updated standards would be released in September 2027, and the first ACS 5-year estimates would be released for the 2026-2030 ACS data in December 2031. Note that this alternative schedule would align the 5-year ACS estimates with the 2030 Decennial Census data.

Once the ACS program begins collecting data using the updated race and ethnicity data standards, the data produced in the 5-year estimates will be crosswalked to the updated race and ethnicity groups until there are five years of data collected in the updated format. For example, the 2023-2027 ACS 5-year estimates would contain data collected in years 2023 through 2026 using the 1997 SPD 15 and data collected in 2027 using the 2024 SPD 15. In those 2023-2027 ACS 5-year estimates, data collected in 2023 through 2026 would be crosswalked to the updated race and ethnicity categories, and data products would comply with the 2024 SPD 15. Crosswalking procedures would be required for all data collected under the 1997 SPD 15 for each 5-year file produced until there are a full 5 years of data available that have been collected under the 2024 SPD 15, as follows:

• 2023-2027 5-Year Estimates: Crosswalking required for years 2023, 2024, 2025, 2026

• 2024-2028 5-Year Estimates: Crosswalking required for years 2024, 2025, 2026

• 2025-2029 5-Year Estimates: Crosswalking required for years 2025, 2026

• 2026-2030 5-Year Estimates: Crosswalking required for years 2026

• 2027-2031 5-Year Estimates: No crosswalking required

This data release schedule will impact all data products that are cross-tabulated by race and ethnicity.

III. Request for Comments

Pursuant to the terms of clearance for the 2025 ACS, we are soliciting public comments on the timeline to implement the updated race and ethnicity standards into the ACS. We are interested in feedback about the impact this update will have on data users, researchers, and community organizations if it is implemented in either the 2026 ACS or the 2027 ACS in light of our assessment of risks to data quality.

Comments you submit in response to this notice are a matter of public record. Before including your address, phone number, email address, or other personal identifying information in your comment, you should be aware that your entire comment—including your personal identifying information—may be made publicly available at any time. While you may ask us in your comment to withhold your personal identifying information from public review, we cannot guarantee that we will be able to do so.

Robert L. Santos, Director, Census Bureau, approved the publication of this Notice in the Federal Register.

Dated: July 9, 2024.
Shannon Wink,
Program Analyst, Policy Coordination Office, U.S. Census Bureau.

[FR Doc. 2024-15336 Filed 7-11-24; 8:45 am]

BILLING CODE 3510-07-P